DEPARTMENT OF TRANSPORTATION

Federal Aviation Administration

14 CFR Part 39

[Docket No. FAA-2006-26696; Directorate Identifier 2006-SW-19-AD; Amendment 39-15058; AD 2007-11-01]

RIN 2120-AA64

Airworthiness Directives; Robinson Helicopter Company Model R44 and R44 II Helicopters

AGENCY: Federal Aviation Administration, DOT.

ACTION: Final rule.

SUMMARY: This amendment adopts a new airworthiness directive (AD) for Robinson Helicopter Company (Robinson) Model R44 and R44 II helicopters that have a certain seat belt buckle (buckle) assembly installed, that requires removing the buckle assembly and the buckle assembly spacer, and replacing them with airworthy parts. This amendment is prompted by an accident in which a seat belt failed, and also by reports of cracking in the buckle assembly stainless support strap (support strap). The actions specified by this AD are intended to prevent cracking in the support strap and failure of a seat belt.

DATES: Effective June 27, 2007.

The incorporation by reference of certain publications listed in the regulations is approved by the Director of the Federal Register as of June 27, 2007.

ADDRESSES: You may get the service information identified in this AD from Robinson Helicopter Company, 2901 Airport Drive, Torrance, California 90505, telephone (310) 539-0508, fax (310) 539-5198.

Examining The Docket: You may examine the docket that contains this AD, any comments, and other information on the Internet at http://dms.dot.gov, or at the Docket Management System (DMS), U.S. Department of Transportation, 400 Seventh Street, SW., Room PL-401, on the plaza level of the Nassif Building, Washington, DC.

FOR FURTHER INFORMATION CONTACT: Venessa Stiger, Aviation Safety Engineer, FAA, Los Angeles Aircraft Certification Office, 3960 Paramount Blvd., Lakewood, California 90712-4137, telephone (562) 627-5337, fax (562) 627-5210.

SUPPLEMENTARY INFORMATION: A proposal to amend 14 CFR part 39 to include an AD for the specified model helicopters was published in the Federal Register on January 9, 2007 (72 FR 918). That action proposed to require, for Robinson Model R44 helicopters, through serial number (S/N) 1576, and Model R44 II helicopters, through S/N 11107, that have a C628-4, revision M or prior, buckle assembly installed, removing the buckle assembly and the A130-52 buckle assembly spacer and replacing them with a C628-4, revision N buckle assembly and a new A130-52 buckle assembly spacer within 100 hours time-in-service.

We have reviewed Robinson Service SB-56, dated March 29, 2006, which describes procedures for inspecting the buckle assemblies for cracks and replacing the buckle assemblies. This AD does not require inspecting the buckle assemblies for cracks.

Interested persons have been afforded an opportunity to participate in the making of this amendment. No comments were received on the proposal or the FAA's determination of the cost to the public. The FAA has determined that air safety and the public interest require the adoption of the rule as proposed.

The FAA estimates that this AD will affect 900 helicopters of U.S. registry, and replacing a buckle assembly will take approximately 0.2 work hour per buckle to accomplish at an average labor rate of $80 per work hour. Required parts will cost approximately $105 for each C628-4, revision N buckle assembly, and $8.25 for each A130-52 buckle assembly spacer. Based on these figures, we estimate the total cost impact of the AD on U.S. operators to be $517 for each helicopter, or $465,300 for the entire fleet, assuming that four buckle assemblies and buckle assembly spacers are replaced in each helicopter.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2007-11-01 Robinson Helicopter Company: Amendment 39-15058. Docket No. FAA-2006-26696; Directorate Identifier 2006-SW-19-AD.

Applicability: Model R44 helicopters, through serial number (S/N) 1576, and Model R44 II helicopters, through S/N 11107, with a seat belt buckle assembly (buckle assembly) part number C628-4, revision M or prior, installed, certificated in any category.

Compliance: Required within 100 hours time-in-service, unless accomplished previously.

To prevent cracking in the buckle assembly stainless support strap and failure of a seat belt, accomplish the following:

(a) Remove the buckle assembly and any A130-52 buckle assembly spacer, and replace them with a C628-4, revision N buckle assembly and a new A130-52 buckle assembly spacer, in accordance with the Compliance Procedure, paragraph 3, in Robinson Helicopter Company Service Bulletin SB-56, dated March 29, 2006. The new A130-52 buckle assembly spacers have been redesigned to be slightly longer than the previous A130-52 buckle assembly spacers, to reduce friction in the joint.

Note: Inspecting the buckle assembly for cracks is not required by this AD.

(b) Replacing the buckle assembly and buckle assembly spacer with a C628-4, Revision N buckle assembly and a new A130-52 buckle assembly spacer is a terminating action for the requirements of this AD.

(c) To request a different method of compliance or a different compliance time for this AD, follow the procedures in 14 CFR 39.19. Contact the Manager, Los Angeles Aircraft Certification Office, FAA, ATTN: Venessa Stiger, Aviation Safety Engineer, 3960 Paramount Blvd., Lakewood, California 90712-4137, telephone (562) 627-5337, fax (562) 627-5210, for information about previously approved alternative methods of compliance.

(d) The replacements shall be done in accordance with Robinson Helicopter Company Service Bulletin SB-56, dated March 29, 2006. The Director of the Federal Register approved this incorporation by reference in accordance with 5 U.S.C. 552(a) and 1 CFR part 51. Copies may be obtained from Robinson Helicopter Company, 2901 Airport Drive, Torrance, California 90505, telephone (310) 539-0508, fax (310) 539-5198. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(e) This amendment becomes effective on June 27, 2007.

Issued in Fort Worth, Texas, on May 8, 2007.
David A. Downey,
Manager, Rotorcraft Directorate, Aircraft Certification Service.

[FR Doc. E7-9687 Filed 5-22-07; 8:45 am]

BILLING CODE 4910-13-P